DEPARTMENT OF LABOR

Employment and Training Administration

[TA-W-64,324]

Chrysler, LLC, Mack Avenue Engine Plants 1 & 2, Power Train Division, Including On-Site Leased Workers From Caravan Knight Facilities Management LLC; Detroit, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 4, 2008, applicable to workers of Chrysler, LLC, Mack Avenue Engine Plants 1 & 2, Power Train Division, Detroit, Michigan. The notice was published in the Federal Register on December 18, 2008 (73 FR 77067).

At the request of the State agency, the Department reviewed the certification for workers of the subject firm. The workers produce engines sent to an affiliate for assembly into the Jeep Commander and Jeep Grand Cherokee.

New information shows that workers leased from Caravan Knight Facilities Management LLC were employed on-site at the Detroit, Michigan location of Chrysler, LLC, Mack Avenue Engine Plants 1 & 2, Power Train Division. The Department has determined that these workers were sufficiently under the control of the subject firm to be considered leased workers.

Based on these findings, the Department is amending this certification to include workers leased from Caravan Knight Facilities Management LLC working on-site at the Detroit, Michigan location of Chrysler, LLC, Mack Avenue Engine Plants 1 & 2, Power Train Division.

The amended notice applicable to TA-W-64,324 is hereby issued as follows:

All workers of Chrysler, LLC, Mack Avenue Engine Plants 1 & 2, Power Train Division, including on-site leased workers from Caravan Knight Facilities Management LLC, Detroit, Michigan, who became totally or partially separated from employment on or after October 30, 2007, through December 4, 2010, are eligible to apply for adjustment assistance under Section 223 of the Trade Act of 1974, and are also eligible to apply for alternative trade adjustment assistance under Section 246 of the Trade Act of 1974.

Signed at Washington, DC, this 4th day of March 2010.
Richard Church,
Certifying Officer, Division of Trade Adjustment Assistance.

[FR Doc. 2010-5332 Filed 3-11-10; 8:45 am]

BILLING CODE 4510-FN-P